DEPARTMENT OF COMMERCE

International Trade Administration

[A-570-964]

Seamless Refined Copper Pipe and Tube From the People's Republic of China: Rescission of Antidumping Duty Administrative Review; 2016-2017

AGENCY: Enforcement and Compliance, International Trade Administration, Department of Commerce.

SUMMARY: The Department of Commerce (Commerce) is rescinding its administrative review of the antidumping duty order on seamless refined copper pipe and tube (copper pipe and tube) from the People's Republic of China (China) for the period of review (POR) November 1, 2016, through October 31, 2017.

DATES: Applicable July 27, 2018.

FOR FURTHER INFORMATION CONTACT: Maisha Cryor AD/CVD Operations, Office VI, Enforcement and Compliance, International Trade Administration, U.S. Department of Commerce, 1401 Constitution Avenue NW, Washington, DC 20230; telephone: (202) 482-5831.

SUPPLEMENTARY INFORMATION:

Background

On November 1, 2017, Commerce published in the Federal Register a notice of opportunity to request an administrative review of the antidumping duty order on copper pipe and tube from China for the period November 1, 2016, through October 31, 2017.¹ On November 21, 2017, the Ad Hoc Coalition for Domestically Produced Seamless Refined Copper Pipe and Tube and its individual members ² (collectively, the petitioners), timely requested that Commerce conduct an administrative review of this antidumping duty order with respect to Golden Dragon Precise Copper Tube Group, Inc. (Golden Dragon).³ On January 11, 2018, Commerce initiated an administrative review with respect to Golden Dragon, in accordance with section 751(a) of the Tariff Act of 1930, as amended (the Act) and 19 CFR 351.221(c)(1)(i).⁴ On March 29, 2018, the petitioners timely withdrew their request for an administrative review.⁵

¹ See Antidumping or Countervailing Duty Order, Finding, or Suspended Investigation; Opportunity to Request Administrative Review, 82 FR 50620 (November 1, 2017).

² The individual members of Ad Hoc Coalition for Domestically Produced Seamless Refined Copper Pipe and Tube are Cerro Flow Products, LLC, Wieland Copper Products, LLC, Howell Metal Company, Mueller Copper Tube Products, Inc., and Mueller Copper Tube Company, Inc.

³ See Letter from the petitioners, “Seamless Refined Copper Pipe and Tube from China: Request for Antidumping Duty Administrative Review,” dated November 21, 2017.

⁴ See Initiation of Antidumping and Countervailing Duty Administrative Reviews, 82 FR 1329, 1333 (January 11, 2018).

⁵ See Letter from the petitioners, “Seamless Refined Copper Pipe and Tube from China: Withdrawal of Request for Antidumping Duty Administrative Review,” dated March 29, 2018.

Rescission of Administrative Review

Pursuant to 19 CFR 351.213(d)(1), Commerce will rescind an administrative review, in whole or in part, if the party that requested a review withdraws the request within 90 days of the date of publication of the notice of initiation of the requested review. In this case, the petitioners withdrew their request for review by the 90-day deadline. Because Commerce received no other request for a review of the antidumping duty order with respect to Golden Dragon, and no other requests were made for a review of the antidumping duty order with respect to other companies, we are rescinding this administrative review covering the period November 1, 2016, through October 31, 2017, in accordance with 19 CFR 213(d)(1).

Assessment

Commerce will instruct U.S. Customs and Border Protection (CBP) to assess antidumping duties on all appropriate entries of copper pipe and tube from China during the POR. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility, under 19 CFR 351.402(f)(2), to file a certificate regarding the reimbursement of antidumping duties prior to liquidation of the relevant entries during this review period. Failure to comply with this requirement could result in the presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a violation which is subject to sanction.

This notice is issued and published in accordance with sections 751(a)(1) and 777(i)(1) of the Act, and 19 CFR 351.213(d)(4).

Dated: July 20, 2018.
James Maeder,
Associate Deputy Assistant Secretary for Antidumping and Countervailing Duty Operations performing the duties of Deputy Assistant Secretary for Antidumping and Countervailing Duty Operations.

[FR Doc. 2018-16075 Filed 7-26-18; 8:45 am]

BILLING CODE 3510-DS-P